DEPARTMENT OF VETERANS AFFAIRS

[OMB Control No. 2900-0843]

Agency Information Collection Activity Under OMB Review: VHA Homeless Programs—Project CHALENG (Community Homelessness Assessment, Local Education and Networking Groups) for Veterans

AGENCY: Veterans Health Administration, Department of Veterans Affairs.

ACTION: Notice.

SUMMARY: In compliance with the Paperwork Reduction Act (PRA) of 1995, this notice announces that the Veterans Health Administration (VHA), Department of Veterans Affairs (VA), will submit the collection of information abstracted below to the Office of Management and Budget (OMB) for review and comment. The PRA submission describes the nature of the information collection and its expected cost and burden, and it includes the actual data collection instrument.

DATES: Comments and recommendations for the proposed information collection should be sent by October 17, 2024.

ADDRESSES: To submit comments and recommendations for the proposed information collection, please type the following link into your browser: www.reginfo.gov/public/do/PRAMain, select “Currently under Review—Open for Public Comments,” then search the list for the information collection by Title or “OMB Control No. 2900-0843.”

FOR FURTHER INFORMATION CONTACT: VA PRA information: Maribel Aponte, 202-461-8900, vacopaperworkreduact@va.gov.

SUPPLEMENTARY INFORMATION:

Title: VHA Homeless Programs—Project CHALENG (Community Homelessness Assessment, Local Education and Networking Groups) for Veterans.

OMB Control Number: 2900-0843. https://www.reginfo.gov/public/do/PRASearch.

Type of Review: Revision of a currently approved collection.

Abstract: Department of Veterans Affairs (VA) launched Project CHALENG (Community Homelessness Assessment, Local Education and Networking Groups) for Veterans in 1993 in response to Public Law 102-405, which required VA to make an assessment of the needs of homeless Veterans in coordination with other Federal departments, state and local government agencies, and nongovernmental agencies with experience working with homeless persons. Since 1993, VA has administered a needs assessment in accordance with guidance in Public Law 103-446 and Public Law 105-114. Legal authority for this data collection is found under 38 U.S.C., part I, chapter 5, section 527 that authorizes the collection of data that will allow measurement and evaluation of the Department of Veterans Affairs Programs, the goal of which is improved health care for Veterans.

This collection of information is necessary to ensure that VA and community partners are developing services that are responsive to the needs of local homeless Veterans, in order to end homelessness and prevent new Veterans from experiencing homelessness. Over the years, data from CHALENG has assisted VA in developing new services for Veterans, such as the Homeless Veteran Dental Program (HVDP), the expansion of the Department of Housing and Urban Development—VA Supportive Housing (HUD-VASH) Program, the Veterans Justice Programs and Supportive Services for Veteran Families (SSVF). In addition, community organizations use CHALENG data in grant applications to support services for homeless Veterans; these grant applications are for VA, other Federal, local government, and community foundation dollars, which maximize community participation in serving homeless Veterans.

This collection will be a renewal of the collection approved in 2021. No revisions have been made to the questions; however, revisions to the burden hours are based upon the number of respondents in the previous year. The collection consists of two survey forms: one for Veterans (VA Form 10-10161) and one for VA staff members, community homeless providers, and interested community members (VA Form 10-10162). The only differences between the two survey forms are the introductory demographic questions; otherwise, the survey is the same for both groups.

An agency may not conduct or sponsor, and a person is not required to respond to a collection of information unless it displays a currently valid OMB control number. The Federal Register Notice with a 60-day comment period soliciting comments on this collection of information was published at 89 FR 52537, June 24, 2024.

Affected Public: Individuals and Households.

Estimated Annual Burden: Total = 620 hours.

Veteran Survey (VA Form 10-10161): 300 hours.

Provider Survey (VA Form 10-10162): 320 hours.

Estimated Average Burden per Respondent:

Veteran Survey: 6 minutes.

Provider Survey: 6 minutes.

Frequency of Response: Once annually.

Estimated Number of Respondents: 6,200 total.

Veteran Survey: 3,000.

Provider Survey: 3,200.

(Authority: 44 U.S.C. 3501 et seq.)

Maribel Aponte,
VA PRA Clearance Officer, Office of Enterprise and Integration, Data Governance Analytics, Department of Veterans Affairs.

[FR Doc. 2024-19539 Filed 9-16-24; 8:45 am]

BILLING CODE 8320-01-P